DEPARTMENT OF COMMERCE

International Trade Administration

[A-201-805]

Certain Circular Welded Non-Alloy Steel Pipe from Mexico: Notice of Amended Final Results of Antidumping Duty Administrative Review Pursuant to Settlement

AGENCY: Enforcement and Compliance, International Trade Administration, Department of Commerce.

DATES: Effective: February 18, 2015.

FOR FURTHER INFORMATION CONTACT: Mark Flessner or Robert James, AD/CVD Operations, Office VI, Enforcement and Compliance, International Trade Administration, U.S. Department of Commerce, 14th Street and Constitution Avenue NW., Washington, DC 20230; telephone: (202) 482-6312 and (202) 482-0649, respectively.

SUPPLEMENTARY INFORMATION:

Background

On April 9, 2010, the Department of Commerce (the Department) published the final results of its administrative review of the antidumping duty order on certain circular welded non-alloy steel pipe from Mexico. The period of review (POR) is November 1, 2008, through October 31, 2009.¹

¹ See Certain Circular Welded Non-Alloy Steel Pipe From Mexico: Final Results of Antidumping Duty Administrative Review, 76 FR 36086 (June 21, 2011) (Final Results).

In the Final Results, the Department assigned to Mueller Comercial de Mexico, S. de R.L. de C.V. (Mueller), an exporter of certain circular welded non-alloy steel pipe from Mexico to the United States, a rate of 19.81 percent for the 2008-09 period of review. The Department had conducted administrative reviews of Mueller, Tuberia Nacional, S.A. de C.V. (TUNA), and Ternium, S.A.de C.V. (Ternium). The Department based Mueller's margin, in part, on facts available because an unaffiliated supplier refused to supply the Department with its costs of production, necessary to conduct the sales-below-cost test on Mueller's home market sales.

Following the publication of the Final Results, Mueller filed a lawsuit with the United States Court of International Trade (CIT) challenging the Department's final results of administrative review.² The CIT upheld the Department's final results.³ Mueller timely appealed to the United States Court of Appeals for the Federal Circuit (CAFC or Court).⁴ The CAFC remanded for the Department to reconsider the margin calculated for Mueller.⁵

² See Mueller Comercial de Mexico, S. de R.L. de C.V. v. United States, Court No. 11-00319, Slip Op. 12-156 (December 21, 2012).

³ See Mueller Comercial de Mexico, S. de R.L. de C.V. v. United States, Court No. 11-00319, Slip Op. 13-57 (May 2, 2013).

⁴ See Mueller Comercial de Mexico, S. de R.L. de C.V. v. United States, 753 F.3rd 1227 (Fed. Circ., 2014).

⁵ Id., at 1235-36.

The United States and Mueller have now entered into an agreement to settle this dispute. The Court issued its amended Order of Judgment by Stipulation on February 6, 2015.⁶ Pursuant to the Court's amended Order of Judgment by Stipulation, the amended final weighted-average dumping margin for Mueller Comercial de Mexico, S. de R.L. de C.V. is 13.70 percent, as agreed to by the parties.

⁶ See Mueller Comercial de Mexico, S. de R.L. de C.V. v. United States, Court No. 11-00319, Slip Op. 15-9 (February 6, 2015).

Assessment Rates

The Department shall determine, and CBP shall assess, antidumping duties on all appropriate entries covered by this review pursuant to section 751(a)(2)(C) of the Act and 19 CFR 351.212(b). The Department intends to issue assessment instructions to CBP within 15 days after the date of publication of these amended final results of review in the Federal Register.

Because Mueller's weighted-average dumping margin is not zero or de minimis (i.e., less than 0.5 percent), the Department has calculated importer-specific antidumping duty assessment rates. We calculated importer-specific ad valorem antidumping duty assessment rates by aggregating the total amount of dumping calculated for the examined sales of each importer and dividing each of these amounts by the total entered value associated with those sales. We will instruct CBP to assess antidumping duties on all appropriate entries covered by this review where an importer-specific assessment rate is not zero or de minimis. Pursuant to 19 CFR 351.106(c)(2), we will instruct CBP to liquidate without regard to antidumping duties any entries for which the importer-specific assessment rate is zero or de minimis.

Cash Deposit Requirements

The cash deposit rate for Mueller will be that stipulated in the settlement agreement, 13.70 percent.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

We are issuing this determination and publishing these final results of antidumping duty administrative review pursuant to settlement and notice in accordance with 19 U.S.C. 1516(e).

Dated: February 12, 2015.
Paul Piquado,
Assistant Secretary for Enforcement and Compliance.

[FR Doc. 2015-03478 Filed 2-17-15; 8:45 am]

BILLING CODE 3510-DS-P